SECURITIES AND EXCHANGE COMMISSION

[Release No. 34-51332, File No. SR-NYSE-2004-20]

Self-Regulatory Organizations; Notice of Filing of Proposed Rule Change and Amendment Nos. 1, 2, 3, 4, 5, 6, and 7 Thereto by the New York Stock Exchange, Inc., To Amend Its Original and Continued Quantitative Listing Standards

March 8, 2005.

Correction

In notice document E5-1132 beginning on page 12924 in the issue of Wednesday, March 16, 2005, make the following correction:

On page 12924, in the third column, the docket number should read as set forth above.

[FR Doc. Z5-1132 Filed 3-24-05; 8:45 am]

BILLING CODE 1505-01-D